DEPARTMENT OF COMMERCE

International Trade Administration

[A-403-801]

Fresh and Chilled Atlantic Salmon From Norway: Final Results of Full Third Sunset Review of Antidumping Duty Order

AGENCY: Import Administration, International Trade Administration, Department of Commerce.

SUMMARY: On January 3, 2011, the Department of Commerce (the Department) initiated a sunset review of the antidumping duty (AD) order on fresh and chilled Atlantic salmon from Norway pursuant to section 751(c) of the Tariff Act of 1930, as amended (the Act). See Initiation of Five-Year (“Sunset”) Review, 76 FR 89 (January 3, 2011) (Sunset Initiation). On the basis of adequate substantive responses submitted by domestic and respondent interested parties, the Department determined to conduct a full sunset review of this AD order pursuant to section 751(c) of the Act and 19 CFR 351.218(e)(2). As a result of our analysis, the Department finds that revocation of the AD order would likely lead to continuation or recurrence of dumping.

DATES: Effective Date: November 14, 2011.

FOR FURTHER INFORMATION CONTACT: John Conniff, AD/CVD Operations, Office 3, Import Administration, U.S. Department of Commerce, 14th Street and Constitution Avenue NW., Washington, DC 20230; telephone: (202) 482-1009.

SUPPLEMENTARY INFORMATION:

Background

On January 3, 2011, the Department initiated the third sunset review of the AD order on fresh and chilled Atlantic salmon from Norway pursuant to section 751(c) of the Act. See Sunset Initiation. On January 13, 2011, the Government of Norway (GON), Norwegian Seafood Federation (NSF), and Aquaculture Division of the Norwegian Seafood Association (ADNSA) (collectively, the respondents), filed letters of appearance in the review.¹ On January 18, 2011, Phoenix Salmon U.S., Inc. (Phoenix Salmon), a domestic producer of fresh and chilled Atlantic salmon, filed a notice of intent to participate in the review.²

¹ These public documents and all other public documents and public versions of proprietary documents with regard to this third full sunset review are available on the public record located in the Department's Central Records Unit at room 7046 of the main Department of Commerce building.

² Phoenix Salmon claimed to be the successor to the two domestic producers who participated in the prior sunset review—Atlantic Salmon of Maine and Heritage Salmon Company, Inc.

On January 21, 2011, NSF and ADNSA supplemented their letter of appearance by submitting to the Department a list of their members. On February 2, 2011, the Department received a substantive response from Phoenix Salmon and a joint substantive response from the respondents within the deadline specified in 19 CFR 351.218(d)(3)(i).

Based on a finding that the substantive responses were adequate, we determined to conduct a full sunset review of this AD order. See Memorandum to Gary Taverman, Acting Deputy Assistant Secretary for Antidumping and Countervailing Duty Operations, from Melissa Skinner, Director, Antidumping and Countervailing Duty Operations, Office 3, regarding “Adequacy Determination: Third Sunset Reviews of the Antidumping and Countervailing Duty Orders on Fresh and Chilled Atlantic Salmon From Norway” (April 6, 2011).

On July 29, 2011, the Department published in the Federal Register the preliminary results of the full third sunset review of the AD order on fresh and chilled Atlantic salmon from Norway. See Fresh and Chilled Atlantic Salmon From Norway: Preliminary Results of Full Third Sunset Review of Antidumping Duty Order, 76 FR 45513 (July 29, 2011) (Preliminary Results) and accompanying Issues and Decision Memorandum. We preliminarily found that dumping was likely to continue or recur.

The Department invited interested parties to comment on the Preliminary Results. On September 19, 2011, we received a case brief from the GON, and on September 26, 2011, we received a rebuttal brief from Phoenix Salmon. We did not conduct a hearing because a hearing was not requested.

Scope of the Order

The product covered by the order is the species Atlantic salmon (Salmon Salar) marketed as specified herein; the order excludes all other species of salmon: Danube salmon, Chinook (also called “king” or “quinnat”), Coho (“silver”), Sockeye (“redfish” or “blueback”), Humpback (“pink”) and Chum (“dog”).³ Atlantic salmon is a whole or nearly-whole fish, typically (but not necessarily) marketed gutted, bled, and cleaned, with the head on. The subject merchandise is typically packed in fresh-water ice (“chilled”). Excluded from the subject merchandise are fillets, steaks and other cuts of Atlantic salmon. Also excluded are frozen, canned, smoked or otherwise processed Atlantic salmon. Atlantic salmon is currently provided for under Harmonized Tariff Schedule of the United States (HTSUS) subheadings 0302.12.0003 and 0302.12.0004.

³ On August 5, 2009, the Department made a final scope ruling determining that whole salmon steaks are within the scope of the order. See Notice of Scope Rulings, 75 FR 14138 (March 24, 2010).

The HTSUS subheadings are provided for convenience and customs purposes. The written description remains dispositive as to the scope of the product coverage.

Analysis of Comments Received

All issues raised in this review are addressed in the Issues and Decision Memorandum for the Final Results of Full Third Sunset Review of the Antidumping Duty Order on Fresh and Chilled Atlantic Salmon from Norway (Decision Memorandum) from Gary Taverman, Acting Deputy Assistant Secretary for Antidumping and Countervailing Duty Operations, to Paul Piquado, Assistant Secretary for Import Administration, dated concurrently with this final notice, which is hereby adopted by this notice. Parties can find a complete discussion of all issues raised in this full sunset review and the corresponding recommendation in this public memorandum which is on file electronically via Import Administration's Antidumping and Countervailing Duty Centralized Electronic Services System (IA ACCESS). Access to IA ACCESS is available in the Central Records Unit room 7046 of the main Commerce building. In addition, a complete version of the Decision Memorandum can be accessed directly on the Web at http://ia.ita.doc.gov/frn. The signed Decision Memorandum and the electronic versions of the Decision Memorandum are identical in content.

Final Results of Review

We determine that revocation of the AD duty order on fresh and chilled Atlantic salmon from Norway would be likely to lead to continuation or recurrence of dumping at the following weighted-average margins:

Manufacturer/exporter | Margin (percent)
Salmonor A/S | 18.39
Sea Star International A/S | 24.61
Skaarfish Mowi A/S | 15.65
Fremstad Group A/S | 21.51
Domstein and Co. | 31.81
Saga A/S | 26.55
Chr. Bjelland Seafood A/S | 19.96
Hallvard Leroy A/S | 31.81
All Others | 23.80

Notification to Interested Parties

This notice also serves as the only reminder to parties subject to an administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing the final results of this review in accordance with sections 751(c), 752, and 777(i) of the Act.

Dated: November 7, 2011.
Paul Piquado,
Assistant Secretary for Import Administration.

[FR Doc. 2011-29332 Filed 11-10-11; 8:45 am]

BILLING CODE 3510-DS-P